SUSQUEHANNA RIVER BASIN COMMISSION

Projects Approved for Consumptive Uses of Water

AGENCY: Susquehanna River Basin Commission.

ACTION: Notice.

SUMMARY: This notice lists the projects approved by rule by the Susquehanna River Basin Commission during the period set forth in “DATES.”

DATE: October 1, 2011, through December 31, 2011.

ADDRESSES: Susquehanna River Basin Commission, 1721 North Front Street, Harrisburg, PA 17102-2391.

FOR FURTHER INFORMATION CONTACT: Richard A. Cairo, General Counsel, telephone: (717) 238-0423, ext. 306; fax: (717) 238-2436; email: rcairo@srbc.net or Stephanie L. Richardson, Secretary to the Commission, telephone: (717) 238-0423, ext. 304; fax: (717) 238-2436; email: srichardson@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule Issued Under 18 CFR 806.22(f)

1. Citrus Energy Corp, Pad ID: Reimiller 1, ABR-201110001, Meshoppen Township, Wyoming County, Pa.; Consumptive Use of up to 5.000 mgd; Approval Date: October 6, 2011.

2. Citrus Energy Corp, Pad ID: Mattocks 1, ABR-201110002, Washington Township, Wyoming County, Pa.; Consumptive Use of up to 5.000 mgd; Approval Date: October 6, 2011.

3. Citrus Energy Corp, Pad ID: McConnell 1, ABR-201110003, Tunkhannock Township, Wyoming County, Pa.; Consumptive Use of up to 5.000 mgd; Approval Date: October 6, 2011.

4. Chesapeake Appalachia, LLC, Pad ID: Laurel, ABR-201110004, Overton Township, Bradford County, Pa.; Consumptive Use of up to 7.500 mgd; Approval Date: October 11, 2011.

5. Chesapeake Appalachia, LLC, Pad ID: Brule, ABR-201110005, Elkland Township, Sullivan County, Pa.; Consumptive Use of up to 7.500 mgd; Approval Date: October 11, 2011.

6. Seneca Resources Corporation, Pad ID: DCNR 100 Pad A, ABR-201110006, McIntyre Township, Lycoming County, Pa.; Consumptive Use of up to 4.000 mgd; Approval Date: October 11, 2011.

7. Chief Oil & Gas LLC, Pad ID: Squier B Drilling Pad #1, ABR-201110007, Springville Township, Susquehanna County, Pa.; Consumptive Use of up to 2.000 mgd; Approval Date: October 11, 2011.

8. Chief Oil & Gas LLC, Pad ID: Bouse Drilling Pad #1, ABR-201110008, Monroe Township, Bradford County, Pa.; Consumptive Use of up to 2.000 mgd; Approval Date: October 11, 2011.

9. SWEPI LP, Pad ID: Chappell 855, ABR-201110009, Middlebury Township, Tioga County, Pa.; Consumptive Use of up to 4.000 mgd; Approval Date: October 13, 2011.

10. EQT Production Company, Pad ID: COP 63 Hogback, ABR-201110010, Pine and Huston Townships, Clearfield County, Pa.; Consumptive Use of up to 3.000 mgd; Approval Date: October 13, 2011.

11. Chesapeake Appalachia, LLC, Pad ID: Falconero, ABR-201110011, Forkston Township, Wyoming County, Pa.; Consumptive Use of up to 7.500 mgd; Approval Date: October 20, 2011.

12. Seneca Resources Corporation, Pad ID: DCNR 007 Pad H, ABR-201110012, Delmar Township, Tioga County, Pa.; Consumptive Use of up to 4.000 mgd; Approval Date: October 20, 2011.

13. Seneca Resources Corporation, Pad ID: Gamble Pad A, ABR-201110013, Gamble Township, Lycoming County, Pa.; Consumptive Use of up to 4.000 mgd; Approval Date: October 20, 2011.

14. Cabot Oil & Gas Corporation, Pad ID: LippincottF P1, ABR-201110014, Brooklyn Township, Susquehanna County, Pa.; Consumptive Use of up to 3.575 mgd; Approval Date: October 20, 2011.

15. Cabot Oil & Gas Corporation, Pad ID: EllsworthA P1, ABR-201110015, Dimock Township, Susquehanna County, Pa.; Consumptive Use of up to 3.575 mgd; Approval Date: October 20, 2011.

16. Chesapeake Appalachia, LLC, Pad ID: Donovan, ABR-201110016, Ulster Township, Bradford County, Pa.; Consumptive Use of up to 7.500 mgd; Approval Date: October 24, 2011.

17. Carrizo Marcellus, LLC, Pad ID: Henninger Pad, ABR-201110017, Jessup Township, Susquehanna County, Pa.; Consumptive Use of up to 2.100 mgd; Approval Date: October 24, 2011.

18. Cabot Oil & Gas Corporation, Pad ID: WilliamsD P1, ABR-201110018, Brooklyn Township, Susquehanna County, Pa.; Consumptive Use of up to 3.575 mgd; Approval Date: October 25, 2011.

19. Energy Corporation of America, Pad ID: Coldstream Affiliates B, ABR-201110019, Goshen Township, Clearfield County, Pa.; Consumptive Use of up to 5.000 mgd; Approval Date: October 25, 2011.

20. Chesapeake Appalachia, LLC, Pad ID: Gardner, ABR-201110020, Albany Township, Bradford County, Pa.; Consumptive Use of up to 7.500 mgd; Approval Date: October 27, 2011.

21. Chesapeake Appalachia, LLC, Pad ID: Alkan, ABR-201110021, Wilmot Township, Bradford County, Pa.; Consumptive Use of up to 7.500 mgd; Approval Date: October 31, 2011.

22. Chesapeake Appalachia, LLC, Pad ID: Nicholson, ABR-201110022, Nicholson Township, Wyoming County, Pa.; Consumptive Use of up to 7.500 mgd; Approval Date: October 31, 2011.

23. Talisman Energy USA Inc., Pad ID: 02 155 Mountain Run Hunting Club, ABR-20111023, Union Township, Tioga County, Pa.; Consumptive Use of up to 6.000 mgd; Approval Date: October 31, 2011.

24. Talisman Energy USA Inc., Pad ID: 03 125 Stiles D, ABR-20111024, Columbia Township, Bradford County, Pa.; Consumptive Use of up to 6.000 mgd; Approval Date: October 31, 2011.

25. Talisman Energy USA Inc., Pad ID: 03 126 Stiles D, ABR-20111025, Columbia Township, Bradford County, Pa.; Consumptive Use of up to 6.000 mgd; Approval Date: October 31, 2011.

26. Enerplus Resources (USA) Corporation, Pad ID: Winner 6 Well Pad, ABR-201110026, East Keating Township, Clinton County, Pa.; Consumptive Use of up to 4.000 mgd; Approval Date: October 31, 2011.

27. EOG Resources, Inc., Pad ID: PHC Pad AA, ABR-201110027, Goshen Township, Clearfield County, Pa.; Consumptive Use of up to 4.999 mgd; Approval Date: October 31, 2011.

28. EOG Resources, Inc., Pad ID: KINGSLEY 5HA/6HA Pad, ABR-201110028, Springfield Township, Bradford County, Pa.; Consumptive Use of up to 4.999 mgd; Approval Date: October 31, 2011.

29. EOG Resources, Inc., Pad ID: GHFC Pad B, ABR-201110029, Lawrence Township, Clearfield County, Pa.; Consumptive Use of up to 4.999 mgd; Approval Date: October 31, 2011.

30. EOG Resources, Inc., Pad ID: GHFC Pad A, ABR-201110030, Lawrence Township, Clearfield County, Pa.; Consumptive Use of up to 4.999 mgd; Approval Date: October 31, 2011.

31. EOG Resources, Inc., Pad ID: ASHBY Pad, ABR-201110031, Athens Borough, Bradford County, Pa.; Consumptive Use of up to 4.999 mgd; Approval Date: October 31, 2011.

32. EOG Resources, Inc., Pad ID: WALLACE Pad, ABR-201110032, Smithfield Township, Bradford County, Pa.; Consumptive Use of up to 4.999 mgd; Approval Date: October 31, 2011.

33. EOG Resources, Inc., Pad ID: WOLFE Pad, ABR-201110033, Smithfield Township, Bradford County, Pa.; Consumptive Use of up to 4.999 mgd; Approval Date: October 31, 2011.

34. EOG Resources, Inc., Pad ID: PRUYNE 1H Pad, ABR-201110034, Smithfield Township, Bradford County, Pa.; Consumptive Use of up to 4.999 mgd; Approval Date: October 31, 2011.

35. Chesapeake Appalachia, LLC, Pad ID: Cook, ABR-201111001, Rush Township, Susquehanna County, Pa.; Consumptive Use of Up to 7.500 mgd; Approval Date: November 4, 2011.

36. Chesapeake Appalachia, LLC, Pad ID: Gestewitz, ABR-201111002, North Towanda Township, Bradford County, Pa.; Consumptive Use of Up to 7.500 mgd; Approval Date: November 8, 2011.

37. Chesapeake Appalachia, LLC, Pad ID: Knapp, ABR-201111003, Burlington Township, Bradford County, Pa.; Consumptive Use of Up to 7.500 mgd; Approval Date: November 8, 2011.

38. Range Resources—Appalachia, LLC, Pad ID: Bobst Unit #34H-#37H, ABR-201111004, Cogan House Township, Lycoming County, Pa.; Consumptive Use of Up to 5.000 mgd; Approval Date: November 10, 2011.

39. Range Resources—Appalachia, LLC, Pad ID: Sechrist, Mark—#1H-#3H, ABR-201111005, Anthony Township, Lycoming County, Pa.; Consumptive Use of Up to 5.000 mgd; Approval Date: November 10, 2011.

40. Range Resources—Appalachia, LLC, Pad ID: Red Bend B Unit #1H-#8H, ABR-201111006, Cogan House Township, Lycoming County, Pa.; Consumptive Use of Up to 5.000 mgd; Approval Date: November 10, 2011.

41. Range Resources—Appalachia, LLC, Pad ID: Red Bend C Unit #1H-#5H, ABR-201111007, Cogan House Township, Lycoming County, Pa.; Consumptive Use of Up to 5.000 mgd; Approval Date: November 10, 2011.

42. Tenaska Resources, LLC, Pad ID: Traub Pad A, ABR-201111008, Abbott Township, Potter County, Pa.; Consumptive Use of Up to 4.999 mgd; Approval Date: November 10, 2011.

43. Chesapeake Appalachia, LLC, Pad ID: Coyle, ABR-201111009, Albany Township, Bradford County, Pa.; Consumptive Use of Up to 7.500 mgd; Approval Date: November 14, 2011.

44. Chesapeake Appalachia, LLC, Pad ID: Richard, ABR-201111010, Rush Township, Susquehanna County, Pa.; Consumptive Use of Up to 7.500 mgd; Approval Date: November 14, 2011.

45. Chesapeake Appalachia, LLC, Pad ID: Rossi, ABR-201111011, Litchfield Township, Bradford County, Pa.; Consumptive Use of Up to 7.500 mgd; Approval Date: November 14, 2011.

46. Chesapeake Appalachia, LLC, Pad ID: Bartholomew, ABR-201111012, Franklin Township, Bradford County, Pa.; Consumptive Use of Up to 7.500 mgd; Approval Date: November 14, 2011.

47. Pennsylvania General Energy Co. LLC, Pad ID: COP Tract 293 Pad H, ABR-201111013, Cummings Township, Lycoming County, Pa.; Consumptive Use of Up to 3.500 mgd; Approval Date: November 14, 2011.

48. Pennsylvania General Energy Co. LLC, Pad ID: COP Tract 293 Pad I, ABR-201111014, Cummings Township, Lycoming County, Pa.; Consumptive Use of Up to 3.500 mgd; Approval Date: November 14, 2011.

49. Pennsylvania General Energy Co. LLC, Pad ID: COP Tract 729 Pad B, ABR-201111015, Cummings Township, Lycoming County, Pa.; Consumptive Use of Up to 3.500 mgd; Approval Date: November 14, 2011.

50. Chief Oil & Gas LLC, Pad ID: Madigan Farms A Drilling Pad #1, ABR-201111016, Burlington Township, Bradford County, Pa.; Consumptive Use of Up to 2.000 mgd; Approval Date: November 14, 2011.

51. Chesapeake Appalachia, LLC, Pad ID: Lines, ABR-201111017, Monroe Township, Bradford County, Pa.; Consumptive Use of up to 7.500 mgd; Approval Date: November 14, 2011.

52. Chesapeake Appalachia, LLC, Pad ID: Robbins, ABR-201111018, Ulster Township, Bradford County, Pa.; Consumptive Use of up to 7.500 mgd; Approval Date: November 14, 2011.

53. Chesapeake Appalachia, LLC, Pad ID: Williamson, ABR-201111019, Smithfield Township, Bradford County, Pa.; Consumptive Use of up to 7.500 mgd; Approval Date: November 14, 2011.

54. Chesapeake Appalachia, LLC, Pad ID: Dulcey, ABR-201111020, Wilmot Township, Bradford County, Pa.; Consumptive Use of up to 7.500 mgd; Approval Date: November 14, 2011.

55. Chesapeake Appalachia, LLC, Pad ID: Eagle Rock, ABR-201111021, Cherry Township, Sullivan County, Pa.; Consumptive Use of up to 7.500 mgd; Approval Date: November 15, 2011.

56. Chesapeake Appalachia, LLC, Pad ID: Krise, ABR-201111022, Leroy Township, Bradford County, Pa.; Consumptive Use of up to 7.500 mgd; Approval Date: November 15, 2011.

57. Cabot Oil & Gas Corporation, Pad ID: WellsP P1, ABR-201111023, Bridgewater Township, Susquehanna County, Pa.; Consumptive Use of up to 3.575 mgd; Approval Date: November 15, 2011.

58. Chief Oil & Gas LLC, Pad ID: Beirne Green Hills Farms A Drilling Pad #1, ABR-201111024, Asylum Township, Bradford County, Pa.; Consumptive Use of Up to 2.000 mgd; Approval Date: November 18, 2011.

59. Chesapeake Appalachia, LLC, Pad ID: Gregerson, ABR-201111025, Auburn Township, Susquehanna County, Pa.; Consumptive Use of up to 7.500 mgd; Approval Date: November 21, 2011.

60. Chesapeake Appalachia, LLC, Pad ID: North40, ABR-201111026, Litchfield Township, Bradford County, Pa.; Consumptive Use of up to 7.500 mgd; Approval Date: November 21, 2011.

61. Chesapeake Appalachia, LLC, Pad ID: LW, ABR-201111027, Cherry Township, Sullivan County, Pa.; Consumptive Use of up to 7.500 mgd; Approval Date: November 21, 2011.

62. Chesapeake Appalachia, LLC, Pad ID: Bodolus, ABR-201111028, Litchfield Township, Bradford County, Pa.; Consumptive Use of up to 7.500 mgd; Approval Date: November 23, 2011.

63. Williams Production Appalachia LLC, Pad ID: Hartle Pad Site, ABR-201111029, Cooper Township, Clearfield County, Pa.; Consumptive Use of up to 7.500 mgd; Approval Date: November 23, 2011.

64. Seneca Resources Corporation, Pad ID: DCNR 007 Pad K 49V, ABR-201111030, Delmar Township, Tioga County, Pa.; Consumptive Use of up to 4.000 mgd; Approval Date: November 23, 2011.

65. Chief Oil & Gas LLC, Pad ID: Nelson Drilling Pad #1, ABR-201111031, Forks Township, Sullivan County, Pa.; Consumptive Use of Up to 2.000 mgd; Approval Date: November 28, 2011.

66. Southwestern Energy Production Company, Pad ID: INNES, ABR-201111032, New Milford Borough, Susquehanna County, Pa.; Consumptive Use of Up to 4.999 mgd; Approval Date: November 28, 2011.

67. Southwestern Energy Production Company, Pad ID: WHENGREEN, ABR-201111033, Lenox Township, Susquehanna County, Pa.; Consumptive Use of Up to 4.999 mgd; Approval Date: November 28, 2011.

68. Cabot Oil & Gas Corporation, Pad ID: HessR P1, ABR-201111034, Dimock Township, Susquehanna County, Pa.; Consumptive Use of up to 3.575 mgd; Approval Date: November 30, 2011.

69. Inflection Energy, LLC, Pad ID: Nature Boy #1V, ABR-201111035, Upper Fairfield Township, Lycoming County, Pa.; Consumptive Use of Up to 4.000 mgd; Approval Date: November 30, 2011.

70. Inflection Energy, LLC, Pad ID: Ultimate Warrior #2H, ABR-201111036, Upper Fairfield Township, Lycoming County, Pa.; Consumptive Use of Up to 4.000 mgd; Approval Date: November 30, 2011.

71. Inflection Energy, LLC, Pad ID: Stunner #1V, ABR-201111037, Gamble and Eldred Townships, Lycoming County, Pa.; Consumptive Use of Up to 4.000 mgd; Approval Date: November 30, 2011.

72. EXCO Resources (PA), LLC, Pad ID: Farnsworth Unit 1H Pad, ABR-201111038, Franklin Township, Lycoming County, Pa.; Consumptive Use of Up to 8.000 mgd; Approval Date: November 30, 2011.

73. Williams Production Appalachia, LLC, Pad ID: HDK Pad, ABR-201112001, Franklin Township, Susquehanna County, Pa.; Consumptive Use of Up to 4.000 mgd; Approval Date: December 6, 2011.

74. Cabot Oil & Gas Corporation, Pad ID: KielarD P1, ABR-201112002, Lathrop Township, Susquehanna County, Pa.; Consumptive Use of Up to 3.575 mgd; Approval Date: December 6, 2011.

75. Cabot Oil & Gas Corporation, Pad ID: Jeffers Farms P1, ABR-201112003, Lenox Township, Susquehanna County, Pa.; Consumptive Use of Up to 3.575 mgd; Approval Date: December 6, 2011.

76. Cabot Oil & Gas Corporation, Pad ID: ZuppK P1, ABR-201112004, Lenox Township, Susquehanna County, Pa.; Consumptive Use of Up to 3.575 mgd; Approval Date: December 6, 2011.

77. Southwestern Energy Production Company, Pad ID: SKELLY, ABR-201112005, New Milford Township, Susquehanna County, Pa.; Consumptive Use of Up to 4.999 mgd; Approval Date: December 6, 2011.

78. Southwestern Energy Production Company, Pad ID: TNT 1 LIMITED PARTNERSHIP, ABR-201112006, New Milford Township, Susquehanna County, Pa.; Consumptive Use of Up to 4.999 mgd; Approval Date: December 6, 2011.

79. Enerplus Resources (USA) Corporation, Pad ID: Dutch Run Camp 1 Well Pad, ABR-201112007, West Keating Township, Clinton County, Pa.; Consumptive Use of Up to 4.000 mgd; Approval Date: December 6, 2011.

80. Anadarko E&P Company LP, Pad ID: Stephen M Sleboda Pad A, ABR-201112008, Cascade Township, Lycoming County, Pa.; Consumptive Use of Up to 4.000 mgd; Approval Date: December 6, 2011.

81. Chief Oil & Gas, LLC, Pad ID: Kingsley B Drilling Pad #1, ABR-201112009, Monroe Township, Bradford County, Pa.; Consumptive Use of Up to 2.000 mgd; Approval Date: December 7, 2011.

82. Chief Oil & Gas, LLC, Pad ID: Lucarino Drilling Pad #1, ABR-201112010, Wilmot Township, Bradford County, Pa.; Consumptive Use of Up to 2.000 mgd; Approval Date: December 7, 2011.

83. Energy Corporation of America, Pad ID: COP 325 A, ABR-201112011, Girard Township, Clearfield County, Pa.; Consumptive Use of Up to 5.000 mgd; Approval Date: December 8, 2011.

84. Carrizo (Marcellus), LLC, Pad ID: Karthaus CK-19, ABR-201112012, Covington Township, Clearfield County, Pa.; Consumptive Use of Up to 2.100 mgd; Approval Date: December 9, 2011.

85. Carrizo (Marcellus), LLC, Pad ID: CK-21, ABR-201112013, Karthaus Township, Clearfield County, Pa.; Consumptive Use of Up to 2.100 mgd; Approval Date: December 9, 2011.

86. Talisman Energy USA Inc., Pad ID: 01 097 Terrel L, ABR-201112014, Troy Township, Bradford County, Pa.; Consumptive Use of Up to 6.000 mgd; Approval Date: December 12, 2011.

87. Talisman Energy USA Inc., Pad ID: 01 095 Terrel L, ABR-201112015, Troy Township, Bradford County, Pa.; Consumptive Use of Up to 6.000 mgd; Approval Date: December 12, 2011.

88. Talisman Energy USA Inc., Pad ID: 01 091 Hoherchak J, ABR-201112016, Armenia Township, Bradford County, Pa.; Consumptive Use of Up to 6.000 mgd; Approval Date: December 12, 2011.

89. Talisman Energy USA Inc., Pad ID: 01 088 McClellan, ABR-201112017, Canton Township, Bradford County, Pa.; Consumptive Use of Up to 6.000 mgd; Approval Date: December 13, 2011.

90. Seneca Resources Corporation, Pad ID: DCNR 007 Pad K, ABR-201112018, Delmar Township, Tioga County, Pa.; Consumptive Use of Up to 4.000 mgd; Approval Date: December 13, 2011.

91. Chesapeake Appalachia, LLC, Pad ID: Bucks Hill, ABR-201112019, LeRaysville Borough, Bradford County, Pa.; Consumptive Use of Up to 7.500 mgd; Approval Date: December 13, 2011.

92. Chesapeake Appalachia, LLC, Pad ID: Edger, ABR-201112020, Smithfield and Ulster Townships, Bradford County, Pa.; Consumptive Use of Up to 7.500 mgd; Approval Date: December 13, 2011.

93. Chesapeake Appalachia, LLC, Pad ID: RGB, ABR-201112021, Smithfield Township, Bradford County, Pa.; Consumptive Use of Up to 7.500 mgd; Approval Date: December 13, 2011.

94. Chesapeake Appalachia, LLC, Pad ID: Yost, ABR-201112022, Franklin Township, Bradford County, Pa.; Consumptive Use of Up to 7.500 mgd; Approval Date: December 14, 2011.

95. Cabot Oil & Gas Corporation, Pad ID: CareyR P1, ABR-201112023, Harford Township, Susquehanna County, Pa.; Consumptive Use of Up to 3.575 mgd; Approval Date: December 14, 2011.

96. Southwestern Energy Production Company, Pad ID: RANSOM (HH PAD), ABR-201112024, Lenox Township, Susquehanna County, Pa.; Consumptive Use of Up to 4.999 mgd; Approval Date: December 14, 2011.

97. Southwestern Energy Production Company, Pad ID: KILMER, ABR-201112025, Lenox Township, Susquehanna County, Pa.; Consumptive Use of Up to 4.999 mgd; Approval Date: December 16, 2011.

98. Chesapeake Appalachia, LLC, Pad ID: Wildonger, ABR-201112026, Wyalusing Township, Bradford County, Pa.; Consumptive Use of Up to 7.500 mgd; Approval Date: December 16, 2011.

99. Chesapeake Appalachia, LLC, Pad ID: Sharidan, ABR-201112027, Litchfield Township, Bradford County, Pa.; Consumptive Use of Up to 7.500 mgd; Approval Date: December 16, 2011.

100. Enerplus Resources (USA) Corporation, Pad ID: Winner 1 Well Pad, ABR-201112028, East Keating Township, Clinton County, Pa.; Consumptive Use of Up to 4.000 mgd; Approval Date: December 20, 2011.

101. Anadarko E&P Company LP, Pad ID: COP Tract 356 Pad E, ABR-201112029, Cummings Township, Lycoming County, Pa.; Consumptive Use of Up to 4.000 mgd; Approval Date: December 20, 2011.

102. Anadarko E&P Company LP, Pad ID: Larrys Creek F&G Pad E, ABR-201112030, Cummings Township, Lycoming County, Pa.; Consumptive Use of Up to 4.000 mgd; Approval Date: December 20, 2011.

103. Southwestern Energy Production Company, Pad ID: LOCH, ABR-201112031, Cogan House Township, Lycoming County, Pa.; Consumptive Use of Up to 4.999 mgd; Approval Date: December 21, 2011.

104. Southwestern Energy Production Company, Pad ID: HOWLAND-LENT, ABR-201112032, Herrick Township, Bradford County, Pa.; Consumptive Use of Up to 4.999 mgd; Approval Date: December 21, 2011.

105. Southwestern Energy Production Company, Pad ID: FRIES PAD, ABR-201112033, Lenox Township, Susquehanna County, Pa.; Consumptive Use of Up to 4.999 mgd; Approval Date: December 21, 2011.

106. Seneca Resources Corporation, Pad ID: DCNR 007 Pad D, ABR-201112034, Delmar Township, Tioga County, Pa.; Consumptive Use of Up to 4.000 mgd; Approval Date: December 22, 2011.

107. Seneca Resources Corporation, Pad ID: DCNR 001 Pad C, ABR-201112035, Ulysses Township, Potter County, Pa.; Consumptive Use of Up to 4.000 mgd; Approval Date: December 22, 2011.

108. Seneca Resources Corporation, Pad ID: DCNR 007 Pad R, ABR-201112036, Delmar and Shippen Townships, Tioga County, Pa.; Consumptive Use of Up to 4.000 mgd; Approval Date: December 22, 2011.

109. Seneca Resources Corporation, Pad ID: DCNR 001 Pad E, ABR-201112037, Ulysses Township, Potter County, Pa.; Consumptive Use of Up to 4.000 mgd; Approval Date: December 23, 2011.

110. SWEPI LP, Pad ID: Hoffman 1201, ABR-201112038, Brookfield Township, Tioga County, Pa.; Consumptive Use of Up to 4.000 mgd; Approval Date: December 23, 2011.

111. SWEPI LP, Pad ID: Scheible 898, ABR-201112039, Deerfield Township, Tioga County, Pa.; Consumptive Use of Up to 4.000 mgd; Approval Date: December 23, 2011.

112. Range Resources—Appalachia, LLC, Pad ID: Cornwall Mountain, ABR-201112040, Lewis Township, Lycoming County, Pa.; Consumptive Use of Up to 5.000 mgd; Approval Date: December 28, 2011.

113. Range Resources—Appalachia, LLC, Pad ID: Hess Unit #1H, ABR-201112041, Morris Township, Clearfield County, Pa.; Consumptive Use of Up to 5.000 mgd; Approval Date: December 28, 2011.

Authority: Pub. L. 91-575, 84 Stat. 1509 et seq., 18 CFR Parts 806, 807, and 808.

Dated: January 20, 2012.
Stephanie L. Richardson,
Secretary to the Commission.

[FR Doc. 2012-1997 Filed 1-30-12; 8:45 am]

BILLING CODE 7040-01-P